DEPARTMENT OF COMMERCE

National Oceanic and Atmospheric Administration

[RTID 0648-XF154]

Endangered Species; File No. 21516

AGENCY: National Marine Fisheries Service (NMFS), National Oceanic and Atmospheric Administration (NOAA), Commerce.

ACTION: Notice; issuance of permit modification.

SUMMARY: Notice is hereby given that NMFS has issued a modification to Incidental Take Permit (ITP) (No. 21516-01) to Virginia Electric and Power Company, d.b.a. Dominion Virginia Power (Dominion) pursuant to the Endangered Species Act (ESA) of 1973, as amended, for the incidental take of Atlantic sturgeon (Acipenser oxyrinchus oxyrinchus) associated with the otherwise lawful operation of the Dominion Chesterfield Power Station (CPS) in Chesterfield, VA.

ADDRESSES: The modified incidental take permit and other related documents are available on the NMFS Office of Protected Resources website at https://www.fisheries.noaa.gov/national/endangered-species-conservation/incidental-take-permits.

FOR FURTHER INFORMATION CONTACT: Lynn Lankshear, (978) 282-8473, Lynn.Lankshear@noaa.gov.

SUPPLEMENTARY INFORMATION: Section 9 of the ESA and Federal regulations prohibits the “taking” of a species listed as endangered or threatened. The ESA defines “take” to mean harass, harm, pursue, hunt, shoot, wound, kill, trap, capture, or collect, or to attempt to engage in any such conduct. NMFS may issue permits, under limited circumstances to take listed species when the take is incidental to, and not the purpose of, otherwise lawful activities. Section 10(a)(1)(B) of the ESA provides for authorizing incidental take of listed species. The regulations for modifying permits and issuing incidental take permits for threatened and endangered species are promulgated at 50 CFR 222.306 and at 50 CFR 222.307.

Background

NMFS issued Permit No. 21516 to Dominion, published on January 11, 2021 (86 FR 1945). NMFS subsequently re-issued the permit with modified permit conditions for operational changes (88 FR 82324; November 24, 2023). NMFS published notice in the Federal Register on December 20, 2024, that Dominion had requested further modification of their ITP to allow for the incidental take of eggs from the Chesapeake Bay Distinct Population Segment (DPS) of Atlantic sturgeon (89 FR 104105). NMFS has modified Permit No. 21516-01 to authorize the take by entrainment of up to 18,363 eggs per year belonging to the Chesapeake Bay DPS of Atlantic sturgeon. All of the eggs will be free-floating, non-viable eggs, prior to their entrainment at CPS.

National Environmental Policy Act

Issuing an ESA section 10(a)(1)(B) permit constitutes a federal action requiring NMFS to comply with the National Environmental Policy Act (NEPA; 42 U.S.C. 4321 et seq.) as implemented by NOAA Administrative Order 216-6A, Compliance with the National Environmental Policy Act (2016). NMFS prepared a Supplemental Information Report explaining why the potential impacts to sturgeon and other resources fall within the scope of the 2020 Environmental Assessment (EA) and Finding of No Significant Impact developed in support of the original permit. We concluded that there would be little change in the impacts from this action, relative to those described in the original EA. Further, we concluded that there are no significant new circumstances or information that would result in changes to the impacts of the permit requirements as considered in the previous analyses.

Authority: This notice is provided pursuant to section 10(c) of the ESA (16 U.S.C. 1531 et seq.).

Dated: November 13, 2025.
Michael Pentony,
Regional Administrator, Greater Atlantic Regional Fisheries Office, National Marine Fisheries Service.

[FR Doc. 2025-20166 Filed 11-17-25; 8:45 am]

BILLING CODE 3510-22-P